DEPARTMENT OF TRANSPORTATION

Federal Aviation Administration

14 CFR Part 39

[Docket No. 2001-SW-37-AD; Amendment 39-12737; AD 2002-09-04]

RIN 2120-AA64

Airworthiness Directives; Bell Helicopter Textron, Inc. Model 205A, 205A-1, 205B, 212, 412, 412EP, and 412CF Helicopters

AGENCY: Federal Aviation Administration, DOT.

ACTION: Final rule.

SUMMARY: This amendment adopts a new airworthiness directive (AD) for Bell Helicopter Textron, Inc. (BHTI) Model 205A, 205A-1, 205B, 212, 412, 412EP, and 412CF helicopters, that requires inspecting each affected tail rotor blade forward tip weight retention block (tip block) and the aft tip closure (tip closure) for adhesive bond voids, and removing any tail rotor blade with an excessive void from service. This AD also requires modifying certain tail rotor blades by installing shear pins and tip closure rivets. This amendment is prompted by five occurrences of missing tip blocks or tip closures resulting in minor to substantial damage. The actions specified by this AD are intended to prevent loss of a tip block or tip closure, loss of a tail rotor blade, and subsequent loss of control of the helicopter.

DATES: Effective June 7, 2002.

The incorporation by reference of certain publications listed in the regulations is approved by the Director of the Federal Register as of June 7, 2002.

ADDRESSES: The service information referenced in this AD may be obtained from Bell Helicopter Textron, Inc., P.O. Box 482, Fort Worth, Texas 76101, telephone (817) 280-3391, fax (817) 280-6466. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Michael Kohner, Aviation Safety Engineer, FAA, Rotorcraft Directorate, Rotorcraft Certification Office, Fort Worth, Texas 76193-0170, telephone (817) 222-5447, fax (817) 222-5783.

SUPPLEMENTARY INFORMATION: A proposal to amend 14 CFR part 39 to include an AD for BHTI Model 205A, 205A-1, 205B, 212, 412, 412EP, and 412CF helicopters was published in the Federal Register on November 28, 2001 (66 FR 59374). That action proposed to require inspecting the tip block and the tip closure for adhesive bonding voids, and removing any tail rotor blade with an excessive void from service. It also proposed to require modifying certain tail rotor blades by installing shear pins and tip closure rivets in the tip area of affected tail rotor blades.

Interested persons have been afforded an opportunity to participate in the making of this amendment. No comments were received on the proposal or the FAA's determination of the cost to the public. The FAA has determined that air safety and the public interest require the adoption of the rule as proposed.

The FAA estimates that 281 helicopters of U.S. registry will be affected by this AD, that it will take approximately 3 work hours per helicopter to inspect certain tail rotor blades and to install the shear pins and tip closure rivets, and that the average labor rate is $60 per work hour. Required parts will cost approximately $25 per helicopter. Based on these figures, the total cost impact of the AD on U.S. operators is estimated to be $57,605.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2002-09-04 Bell Helicopter Textron, Inc.: Amendment 39-12737. Docket No. 2001-SW-37-AD.

Applicability: Model 205A, 205A-1, 205B, 212, 412, 412EP, and 412CF helicopters with a tail rotor blade, part number 212-010-750-009, -011, -105, -107, -109, or -111, having a serial number (S/N) prefix ATR or A3, or a S/N with a prefix A and a number less than or equal to 11529, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Within 100 hours time-in-service, unless accomplished previously.

To prevent loss of the forward tip weight retention block (tip block) or aft tip closure (tip closure), loss of the tail rotor blade, and subsequent loss of control of the helicopter, accomplish the following:

(a) Inspect the tip block and tip closure for voids. Remove from service any tail rotor blade with a void in excess of that allowed by the Component Repair and Overhaul Manual limitations.

(b) Inspect the tip block attachment countersink screws in four locations to determine if the head of each countersunk screw is flush with the surface of the abrasion strip. The locations of these four screws are depicted on Figure 1 of Bell Helicopter Textron, Inc. Alert Service Bulletins 205-00-80, 205B-00-34, 212-00-111, 412-00-106, and 412CF-00-13, all Revision A, all dated December 20, 2000 (ASB). If any of these screws are set below the surface of the abrasion strip or are covered with filler material, install shear pins in accordance with the Accomplishment Instructions, Shear Pin Installation paragraphs, of the applicable ASB.

(c) Install the aft tip closure rivets on all affected tail rotor blades in accordance with the Accomplishment Instructions, Aft Tip Closure Rivet Installation paragraphs, of the applicable ASB.

(d) An alternative method of compliance or adjustment of the compliance time that provides an acceptable level of safety may be used if approved by the Manager, Rotorcraft Certification Office, Rotorcraft Directorate, FAA. Operators shall submit their requests through an FAA Principal Maintenance Inspector, who may concur or comment and then send it to the Manager, Rotorcraft Certification Office.

Note 2: Information concerning the existence of approved alternative methods of compliance with this AD, if any, may be obtained from the Rotorcraft Certification Office.

(e) Special flight permits may be issued in accordance with 14 CFR 21.197 and 21.199 to operate the helicopter to a location where the requirements of this AD can be accomplished.

(f) The inspection, removal, and modification shall be done in accordance with Bell Helicopter Textron, Inc. Alert Service Bulletins 205-00-80, 205B-00-34, 212-00-111, 412-00-106, and 412CF-00-13, all Revision A, all dated December 20, 2000. This incorporation by reference was approved by the Director of the Federal Register in accordance with 5 U.S.C. 552(a) and 1 CFR part 51. Copies may be obtained from Bell Helicopter Textron, Inc., P.O. Box 482, Fort Worth, Texas 76101, telephone (817) 280-3391, fax (817) 280-6466. Copies may be inspected at the FAA, Office of the Regional Counsel, Southwest Region, 2601 Meacham Blvd., Room 663, Fort Worth, Texas; or at the Office of the Federal Register, 800 North Capitol Street, NW., suite 700, Washington, DC.

(g) This amendment becomes effective on June 7, 2002.

Issued in Fort Worth, Texas, on April 22, 2002.
David A. Downey,
Manager, Rotorcraft Directorate, Aircraft Certification Service.

[FR Doc. 02-10650 Filed 5-2-02; 8:45 am]

BILLING CODE 4910-13-P